COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds service(s) to the Procurement List that will be furnished by nonprofit agencies employing persons who are blind or have other severe disabilities and deletes product(s) and service(s) from the Procurement List previously furnished by such agencies.

DATES: Date added to and deleted from the Procurement List: September 25, 2022.

ADDRESSES: Committee for Purchase From People Who Are Blind or Severely Disabled, 325 E Street SW, Suite 325, Washington, DC 20024.

FOR FURTHER INFORMATION CONTACT: Michael R. Jurkowski, Telephone: (703) 603-2117, or email CMTEFedReg@AbilityOne.gov.

SUPPLEMENTARY INFORMATION:

Additions

On 6/21/2022, the Committee for Purchase From People Who Are Blind or Severely Disabled published notice of proposed additions to the Procurement List. This notice is published pursuant to 41 U.S.C. 8503(a)(2) and 41 CFR 51-2.3.

After consideration of the material presented to it concerning capability of qualified nonprofit agencies to provide the service(s) and impact of the additions on the current or most recent contractors, the Committee has determined that the service(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the product(s) and service(s) to the Government.

2. The action will result in authorizing small entities to furnish the product(s) and service(s) to the Government.

3. There are no known regulatory alternatives which would accomplish the objectives of the Javits-Wagner-O'Day Act (41 U.S.C. 8501-8506) in connection with the product(s) and service(s) proposed for addition to the Procurement List.

End of Certification

Accordingly, the following service(s) are added to the Procurement List:

Service(s)

Service Type: Kennel Caretaker Service

Mandatory for: US Customs and Border Protection, US Border Patrol-Ramey Sector, Aguadilla, PR

Designated Source of Supply: The Corporate Source, Inc., Garden City, NY

Contracting Activity: U.S. CUSTOMS AND BORDER PROTECTION, BORDER ENFORCEMENT CTR DIV

Service Type: Plant Maintenance Services

Mandatory for: GSA PBS Region 5, Paul Findley Federal Building, Springfield, IL

Designated Source of Supply: Challenge Unlimited, Inc., Alton, IL

Contracting Activity: PUBLIC BUILDINGS SERVICE, PBS R5

Service Type: Groundskeeping Service

Mandatory for: FAA, Houston (I90) TRACON, Houston, TX

Designated Source of Supply: PRIDE Industries, Roseville, CA

Contracting Activity: FEDERAL AVIATION ADMINISTRATION, 697DCK REGIONAL ACQUISITIONS SVCS

Deletions

On 6/3/2022, 6/17/2022, and 6/24/2022, the Committee for Purchase From People Who Are Blind or Severely Disabled published notice of proposed deletions from the Procurement List. This notice is published pursuant to 41 U.S.C. 8503(a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s):

2520-01-398-4589—Parts Kit, Hydraulic Transmission, Utility Trucks

Designated Source of Supply: Goodwill Industries—Knoxville, Inc., Knoxville, TN

Contracting Activity: DLA LAND AND MARITIME, COLUMBUS, OH

Service(s)

Service Type: Janitorial/Custodial Service

Mandatory for: US Army Reserve, New Kensington Memorial USARC/BMA 106, New Kensington, PA, 2450 Leechburg Road, New Kensington, PA

Designated Source of Supply: Beaver County Association for the Blind, Beaver Falls, PA

Contracting Activity: DEPT OF THE ARMY, W6QK ACC-PICA

Service Type: Food Service Attendant

Mandatory for: US Air Force, Indiana ANG, 181st Intelligence Wing Dining Facility, Terre Haute, IN, 888 East Vanatti Circle, Terre Haute, IN

Designated Source of Supply: Child-Adult Resource Services, Inc., Rockville, IN

Contracting Activity: DEPT OF THE ARMY, W7M7 USPFO ACTIVITY IN ARNG

Service Type: Custodial and Grounds Maintenance

Mandatory for: US Department of Energy, Information Operations & Research Center, IF-608, Idaho Falls, ID, 1155 Foote Drive, Idaho Falls, ID

Designated Source of Supply: Development Workshop, Inc., Idaho Falls, ID

Contracting Activity: ENERGY, DEPARTMENT OF, SE-IDAHO OPERATIONS OFFICE

Service Type: Custodial service

Mandatory for: National Weather Service, Ohio River Forecast Center, Wilmington, OH, 1901 S State Route 134, Wilmington, OH

Designated Source of Supply: Goodwill Easter Seals Miami Valley, Dayton, OH

Contracting Activity: NATIONAL OCEANIC AND ATMOSPHERIC ADMINISTRATION, EASTERN ACQUISITION DIVISION—NORFOLK

Michael R. Jurkowski,
Acting Director, Business Operations.

[FR Doc. 2022-18404 Filed 8-25-22; 8:45 am]

BILLING CODE 6353-01-P